DEPARTMENT OF ENERGY

Federal Energy Regulatory Commission

Combined Notice of Filings #1

Take notice that the Commission received the following electric corporate filings:

Docket Numbers: EC22-42-000.

Applicants:Sempra Energy, Energia Sierra Juarez U.S., LLC, Energia Sierra Juarez U.S. Transmission, LLC, Termoelectrica U.S., LLC, Sempra Gas & Power Marketing, LLC.

Description:Joint Application for Authorization Under Section 203 of the Federal Power Act of Sempra Energy, et al.

Filed Date: 2/22/22.

Accession Number: 20220222-5408.

Comment Date: 5 p.m. ET 3/15/22.

Docket Numbers: EC22-43-000.

Applicants: EAM Nelson Holding, LLC, Entergy Nuclear Palisades, LLC, Entergy Nuclear Power Marketing, LLC, Entergy Power, LLC, EWO Marketing, LLC, RS Cogen, LLC.

Description: Joint Application for Authorization Under Section 203 of the Federal Power Act of EAM Nelson Holding, LLC, et al.

Filed Date: 2/22/22.

Accession Number: 20220222-5416.

Comment Date: 5 p.m. ET 3/15/22.

Take notice that the Commission received the following electric rate filings:

Docket Numbers: R12-1933-014; ER10-1882-006; ER12-1934-012.

Applicants: Wisconsin Power and Light Company, Wisconsin River Power Company, Interstate Power and Light Company.

Description: Notice of Non-Material Change in Status of Interstate Power & Light Company, et. al.

Filed Date: 2/22/22.

Accession Number: 20220222-5407.

Comment Date: 5 p.m. ET 3/15/22.

Docket Numbers: ER18-1960-005.

Applicants: Tenaska Pennsylvania Partners, LLC.

Description: Notice of Change in Status of Tenaska Pennsylvania Partners, LLC.

Filed Date: 2/23/22.

Accession Number: 20220223-5052.

Comment Date: 5 p.m. ET 3/16/22.

Docket Numbers: ER21-1154-002.

Applicants: ISO New England Inc., Fitchburg Gas and Electric Light Company.

Description: Compliance filing: ISO New England Inc. submits tariff filing per 35: FG&E; ER21-1154-001—Amended Supplemental Order 864 Comp. Filing to be effective 1/27/2020.

Filed Date: 2/23/22.

Accession Number: 20220223-5025.

Comment Date: 5 p.m. ET 3/16/22.

Docket Numbers: ER21-1293-002.

Applicants: ISO New England Inc., NSTAR Electric Company.

Description: Compliance filing: ISO New England Inc. submits tariff filing per 35: NSTAR Electric Company; Docket No. ER21-1293 to be effective 1/27/2020.

Filed Date: 2/23/22.

Accession Number: 20220223-5012.

Comment Date: 5 p.m. ET 3/16/22.

Docket Numbers: ER21-1295-002.

Applicants: ISO New England Inc., Eversource Energy Service Company (as agent).

Description: Compliance filing: ISO New England Inc. submits tariff filing per 35: Eversource Energy Service Company; Docket No. ER21-195 to be effective 1/27/2020.

Filed Date: 2/23/22.

Accession Number: 20220223-5015.

Comment Date: 5 p.m. ET 3/16/22.

Docket Numbers: ER22-787-001.

Applicants: Midcontinent Independent System Operator, Inc.

Description: Tariff Amendment: 2022-02-23_SA 3408 Ameren IL-Glacier Sands Wind Sub 2nd Rev GIA (J1055 J1454) to be effective 12/21/2021.

Filed Date: 2/23/22.

Accession Number: 20220223-5089.

Comment Date: 5 p.m. ET 3/16/22.

Docket Numbers: ER22-1096-000.

Applicants: Midcontinent Independent System Operator, Inc., Ameren Illinois Company.

Description: § 205(d) Rate Filing: Midcontinent Independent System Operator, Inc. submits tariff filing per 35.13(a)(2)(iii: 2022-02-23_SA 3789 ATXI-Double Black Diamond Solar E&P (J1464) to be effective 2/2/2022.

Filed Date: 2/23/22.

Accession Number: 20220223-5027.

Comment Date: 5 p.m. ET 3/16/22.

Docket Numbers: ER22-1097-000.

Applicants: Midcontinent Independent System Operator, Inc., Big Rivers Electric Corporation.

Description: § 205(d) Rate Filing: Midcontinent Independent System Operator, Inc. submits tariff filing per 35.13(a)(2)(iii: 2022-02-23_BREC Attachment O ROE and Attachment GG (Option 1B) Filing to be effective 6/1/2022.

Filed Date: 2/23/22.

Accession Number: 20220223-5033.

Comment Date: 5 p.m. ET 3/16/22.

Docket Numbers: ER22-1098-000.

Applicants: Arizona Public Service Company.

Description: § 205(d) Rate Filing: OATT Modifications—Administrative Filing to be effective 4/25/2022.

Filed Date: 2/23/22.

Accession Number: 20220223-5055.

Comment Date: 5 p.m. ET 3/16/22.

Docket Numbers: ER22-1099-000.

Applicants: Kentucky Power Company.

Description: § 205(d) Rate Filing: KPCo Post-Closing Reactive Tariff (RS 304) to be effective 12/31/9998.

Filed Date: 2/23/22.

Accession Number: 20220223-5056.

Comment Date: 5 p.m. ET 3/16/22.

Docket Numbers: ER22-1100-000.

Applicants: Appalachian Power Company.

Description: § 205(d) Rate Filing: Reactive Supply and Voltage Control Amendment to be effective 12/31/9998.

Filed Date: 2/23/22.

Accession Number: 20220223-5069.

Comment Date: 5 p.m. ET 3/16/22.

Docket Numbers: ER22-1101-000.

Applicants: Cascade Energy Storage, LLC.

Description: Baseline eTariff Filing: Application for Market-Based Rate Authority and Requests for Waivers to be effective 2/24/2022.

Filed Date: 2/23/22.

Accession Number: 20220223-5093.

Comment Date: 5 p.m. ET 3/16/22.

Docket Numbers: ER22-1102-000.

Applicants: Sierra Energy Storage, LLC.

Description: Baseline eTariff Filing: Application for Market-Based Rate Authority and Requests for Waivers to be effective 2/24/2022.

Filed Date: 2/23/22.

Accession Number: 20220223-5100.

Comment Date: 5 p.m. ET 3/16/22.

Docket Numbers: ER22-1103-000.

Applicants: BRP Capital & Trade LLC.

Description: Baseline eTariff Filing: Application for Market-Based Rate Authority and Requests for to be effective 4/25/2022.

Filed Date: 2/23/22.

Accession Number: 20220223-5103.

Comment Date: 5 p.m. ET 3/16/22.

Take notice that the Commission received the following PURPA 210(m)(3) filings:

Docket Numbers: QM22-8-000.

Applicants: DTE Electric Company.

Description: Application of DTE Electric Company to Terminate Its Mandatory Purchase Obligation under the Public Utility Regulatory Policies Act of 1978.

Filed Date: 2/23/22.

Accession Number: 20220223-5119.

Comment Date: 5 p.m. ET 3/23/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 23, 2022.
Debbie-Anne A. Reese,
Deputy Secretary.

[FR Doc. 2022-04249 Filed 2-28-22; 8:45 am]

BILLING CODE 6717-01-P